DEPARTMENT OF THE INTERIOR

Bureau of Reclamation Fish and Wildlife Service

Imperial Irrigation District Water Conservation and Transfer Project, Draft Habitat Conservation Plan, California [INT-DES-01-44], Notice of Public Hearings

AGENCIES: Bureau of Reclamation and Fish and Wildlife Service, Interior.

ACTION: Notice of public hearings.

SUMMARY: Pursuant to the National Environmental Policy Act of 1969, as amended (NEPA), and the Council on Environmental Quality's Regulations for Implementing the Procedural Provisions of NEPA, on January 18, 2002, the Bureau of Reclamation (Reclamation) filed a draft environmental impact report/environmental impact statement (EIR/EIS) on Imperial Irrigation District's (IID) proposed Water Conservation and Transfer Project, Draft Habitat Conservation Plan (HCP). The Fish and Wildlife Service (Service) is a cooperating agency in the preparation of this EIR/EIS (pursuant to 40 CFR 1501.6).

Under the proposed project, IID would conserve and transfer the right to use up to 300,000 acre-feet per year of Colorado River water, which IID is otherwise entitled to divert for use within IID's water service area in Imperial County, California. The conserved water would be transferred to San Diego County Water Authority, Coachella Valley Water District and/or The Metropolitan Water District. These transfers, which are to remain in effect for up to 75 years, would facilitate efforts to reduce California's diversion of Colorado River water in normal years to its annual 4.4 million acre-feet apportionment. The Secretary of the Interior is expected to approve the change in the point of delivery for the transferred water by executing an Implementation Agreement, the environmental impacts of which are disclosed in the “Implementation Agreement, Inadvertent Overrun and Payback Policy, and Related Federal Actions Draft EIS” (INT-DES-01-43) and the “Biological Assessment for Proposed Interim Surplus Criteria, Secretarial Implementation Agreements for California Water Plan Components and Conservation Measures on the Lower Colorado River (Lake Mead to the Southerly International Boundary)” dated August 30, 2000. In addition, IID is applying for a permit with the Service pursuant to section 10(a)(1)(B) of the Endangered Species Act (ESA). This Section 10 permit would authorize the incidental take of covered species associated with the proposed water conservation and transfer project, as well as IID's ongoing operation and maintenance activities. As a condition of applying for a Section 10 permit, IID has developed a HCP in consultation with the Service and the California Department of Fish and Game, which is appended to the draft EIR/EIS. The HCP provides measures to minimize and mitigate the effects of the proposed taking of listed and sensitive species and the habitats upon which they depend. Issuance of a permit pursuant to Section 10(a)(1)(B) is a Federal action requiring evaluation under NEPA, and implementation of the HCP is addressed in the draft EIR/EIS. Additional information regarding the HCP is provided in SUPPLEMENTARY INFORMATION, below. The analysis in the draft EIR/EIS is intended to inform the public of the proposed action and alternatives; address public comments received during the scoping period; disclose the direct, indirect, and cumulative environmental effects of the proposed action and each of the alternatives; and indicate any irreversible commitment of resources that would result from implementation of the proposed action.

Public hearings have been scheduled to receive written or verbal comments on the draft EIR/EIS from interested organizations and individuals on the environmental impacts of the proposed project and implementation of the HCP.

DATES: Public hearings are scheduled to be held to receive written or oral comments about the draft EIR/EIS from interested organizations and individuals, on the adequacy with which the draft EIR/EIS identifies and describes the potential impacts associated with approving and implementing the proposed Federal actions. The hearings will be held on:

• April 2, 2002, 5 p.m., in La Quinta*, California.

• April 3, 2002, 5 p.m., in El Centro*, California.

• April 4, 2002, 5 p.m., in San Diego, California.

(*) A Spanish interpreter will be present.

Written comments will continue to be accepted until April 26, 2002, the end of the public review and comment period (see ADDRESSES, below). (The end of the public review and comment period identified in the original notice of availability (67 FR 3732, Jan. 25, 2002) was in error.)

Oral comments made at the public hearings may address the water conservation and transfer project and/or the HCP; they will be limited to 5 minutes. Time permitting, the meeting facilitator will allow any speaker to provide additional oral comments after all persons wishing to comment have been heard. A court reporter will prepare a written record of all comments made; however, commentors are encouraged to provide a written copy of their statement. If you would like to sign up in advance to provide oral comments, please contact Ms. Janice Kjesbo at (602) 216-3864, faxogram (602) 216-4006, by March 29, 2002. Hearing impaired, visually impaired, and/or mobility impaired persons planning to attend the meeting(s) may arrange for necessary accommodations by contacting Ms. Kjesbo no later than March 15, 2002.

ADDRESSES: The hearings will be held at the following locations:

• La Quinta*—IID Board Room, 81-600 Ave. 58, La Quinta, California 92253.

• El Centro*—IID Auditorium, 1284 Broadway, El Centro, California 92243.

• San Diego—San Diego County Water Authority Board Room, 4677 Overland Ave., San Diego, California 92123.

(*) A Spanish interpreter will be present.

Written comments regarding the adequacy of the document will continue to be accepted until April 26, 2002, to Mr. Bruce Ellis, Chief, Environmental Resources Management Division, Bureau of Reclamation, Phoenix Area Office (PXAO-1500), PO Box 81169, Phoenix, AZ 85069-1169, fax number (602) 216-4006; or Mr. Elston Grubaugh, Manager, Resource Planning and Management Department, Imperial Irrigation District, PO Box 937, Imperial, CA 92251, fax number (760) 339-9009.

FOR FURTHER INFORMATION CONTACT: Questions regarding the draft EIR/EIS should be directed to Mr. Ellis at the Phoenix Area Office address provided above, or telephone (602) 216-3854. For information related to the HCP, please contact Ms. Carol Roberts at the Carlsbad Fish and Wildlife Service office, telephone (760) 431-9440.

SUPPLEMENTARY INFORMATION: Section 9 of the ESA and Federal regulation prohibit the “take” of fish and wildlife species listed as endangered or threatened. Take of listed fish or wildlife is defined under the ESA to include kill, harm, or harass. Harm includes significant habitat modification or degradation that actually kills or injures listed wildlife by significantly impairing essential behavioral patterns, including breeding, feeding, and sheltering (50 CFR 17.3(c)). Under limited circumstances, the Service may issue permits to authorize incidental take; i.e., take that is incidental to, and not the purpose of, otherwise lawful activity. Regulations governing incidental take permits for threatened and endangered species are found in 50 CFR 17.32 and 17.22, respectively. Pursuant to section 10(a)(1)(B) of the ESA, IID has developed an HCP. The IID HCP is intended to address the impacts of the incidental take potentially resulting from the water conservation and transfer project, and ongoing operations and maintenance activities. A total of 96 species are proposed for coverage, including 10 federally-listed and two proposed species. A series of strategies have been developed to address impacts in the drain, desert, tamarisk scrub, agricultural, and Salton Sea habitats. Specific strategies have been developed for the Burrowing Owl, desert pupfish, and razorback sucker. The strategies include the creation of freshwater marsh and native tree habitat, worker education programs, timing restrictions on some covered activities, and research efforts to identify more specifically the needs of some covered species in order to avoid, minimize, and mitigate the impacts of the incidental take. The draft EIR/EIS evaluates the impacts of implementing the HCP.

It is anticipated that IID will be submitting its Incidental Take Permit Application in the near future. Upon receipt of the application package, the Service will publish a separate notice in the Federal Register announcing the receipt of the application and the draft Implementing Agreement, and their availability for public review.

Comments received on the draft EIR/EIS become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. However, we will not consider anonymous comments. We will make all submissions from organizations or businesses, and from individuals identifying themselves as representatives or officials of organizations or businesses, available for public disclosure in their entirety.

Dated: February 26, 2002.
Willie Taylor,
Director, Office of Environmental Policy and Compliance.

[FR Doc. 02-5776 Filed 3-8-02; 8:45 am]

BILLING CODE 4310-MN-P